DEPARTMENT OF JUSTICE

Federal Bureau of Investigation

[OMB Number 1110—NEW]

Agency Information Collection Activities: Proposed Collection, Comments Requested; New Collection; National Crime Information Center (NCIC)

ACTION: 60-day notice.

The Department of Justice, Federal Bureau of Investigation, Criminal Justice Information Services Division will be submitting the following information collection request to the Office of Management and Budget (OMB) for review and clearance in accordance with established review procedures of the Paperwork Reduction Act of 1995. The proposed information collection is published to obtain comments from the public and affected agencies. Comments are encouraged and will be accepted until April 14, 2014.

This process is conducted in accordance with 5 CFR 1320.10.

All comments, suggestions, or questions regarding additional information, to include obtaining a copy of the proposed information collection instrument with instructions, should be directed to Mr. Travis Olson, Acting Unit Chief, Federal Bureau of Investigation, Criminal Justice Information Services (CJIS) Division, Module D-3, 1000 Custer Hollow Road, Clarksburg, West Virginia 26306, or facsimile to (304) 625-2924.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: New Collection.

(2) The title of the form/collection: National Crime Information Center.

(3) The agency form number, if any, and the applicable component of the department sponsoring the collection: Criminal Justice Information Services Division, Federal Bureau of Investigation, Department of Justice.

(4) Affected public who will be asked or required to respond, as well as a brief abstract: Primary: federal, state, local, territorial, and tribal law enforcement agencies. Abstract: Under United States Code, Title 28, Section 534, Acquisition, Preservation, and Exchange of Identification Records; Appointment of Officials, June 11, 1930; Code of Federal Regulations, Title 28, Part 20, Criminal Justice Information, this collection requests information from federal, state, local, territorial, and tribal law enforcement agencies. The NCIC is a computerized information system available to law enforcement and criminal justice agencies nationwide. NCIC became operational on January 27, 1967, with the goal of assisting law enforcement in the apprehension of fugitives and locating stolen property. This goal has expanded to include locating missing persons and further protecting law enforcement personnel and the public. The NCIC is the sole system that houses actionable criminal justice and law enforcement data from more than 90,000 users nationwide. The average transactions per day in FY 2013 were 9.6 million. On September 13, 2013, NCIC had a peak daily transaction volume of 12.21 million transactions. The system was available 99.75 percent of the time in FY 2013. The last major upgrade to NCIC occurred in July 1999, with the transition to NCIC 2000. The CJIS Division has implemented many enhancements to the system since 1999, in an effort to continue to meet the needs of the stakeholders. The NCIC stakeholders include law enforcement and criminal justice users at all levels (federal, state, local, territorial, and tribal). As the lifecycle of NCIC 2000 nears its end, the CJIS Division is preparing for the next major upgrade to NCIC known as NCIC 3 rd Generation (N3G). The mission of N3G is to partner with stakeholders to identify new functionality and information sharing services that will improve, modernize and expand the existing NCIC system so that it will continue to provide real time, accurate, and complete criminal justice information to support the NCIC user community. With OMB approval, the CJIS Division will be conducting a requirements canvass in FY14 and FY15 for N3G. The purpose of the requirements study is to gather and evaluate the needs of the law enforcement and criminal justice communities. Subsequently, the needs of the users will be documented in concepts and scenarios that will ultimately become the Concept of Operations (CONOPS) for the development of the N3G. It is vital that the new capabilities and functionality are detailed in a robust CONOPS to ensure that the system is developed to meet the current and future needs of the users.

(5) An estimate of the total number of respondents and the amount of time estimated for an average respondent to respond: It is anticipated that the N3G Canvass will be conducted at a focal point in all 50 states. The canvass will include interviewing the respective state CSO along with any technical and policy staff, i.e., Computer Engineer(s), they deem appropriate. The on-site canvass will be conducted at the CSA facility and the additional individuals will be required to travel to that respective facility. The CSO and their staff will be at the location for a total of four hours for the state based interview. The state employees will remain at the location during the local level interview process. This interview will include twelve local law enforcement personnel during an additional four hours. It is expected that four of the local personnel will be within the respective city incurring no travel burden. It is anticipated that eight of the local law enforcement personnel from two different districts will require up to four hours travel time (two hours each way) to the interview location, thus four hours burden for eight people.

It is anticipated that ten additional interviews will be conducted that do not fall within the CSO location. These interviewees will consist of the manager, two computer engineers and ten additional personnel.

The estimate of the respondent's burden for this data collection is as follows:

Number of N3G respondents: 880.

Frequency of responses: One session (4 hours each) for Local Law Enforcement Personnel; Two sessions (4 hours each) for CSO and two Computer Engineers except when interviewing at a CSA.

Total annual responses: Once for Local Law Enforcement personnel and twice for CSOs and Computer Engineers.

Hours per response: 4 hours.

Hours for Travel for 8 Local LE personnel per location: 4 hours.

Annual Hour Burden: 5,720 hours.

(6) An estimate of the total public burden (in hours) associated with this collection: There are approximately 5,720 hours, annual burden, associated with this information collection.

If additional information is required contact: Jerri Murray, Department Clearance Officer, Policy and Planning Staff, Justice Management Division, United States Department of Justice, Two Constitution Square, 145 N Street NE., Room 3W-1407B, Washington, DC 20530.

Dated: February 10, 2014.
Jerri Murray,
Department Clearance Officer for PRA, U.S. Department of Justice.

[FR Doc. 2014-03152 Filed 2-12-14; 8:45 am]

BILLING CODE 4410-02-P